DEPARTMENT OF TRANSPORTATION

Federal Motor Carrier Safety Administration

[Docket No. FMCSA-2023-0057]

Commercial Driver's License Standards: Application for Exemption; Pitt Ohio Express, LLC

AGENCY: Federal Motor Carrier Safety Administration (FMCSA), Department of Transportation (DOT).

ACTION: Notice of final disposition; denial of application for exemption.

SUMMARY: FMCSA announces its denial of the application from Pitt Ohio Express, LLC (Pitt Ohio) to exempt its drivers from one of the requirements in the Agency's Safe Driver Apprenticeship Pilot (SDAP) program. Pitt Ohio requests an exemption allowing it to use drivers under the age 21, who hold a Commercial Learner's Permit (CLP) to operate commercial motor vehicles (CMVs) in interstate commerce, to participate in the SDAP program. FMCSA analyzed the application and determined that there is insufficient basis to conclude that the exemption would likely achieve a level of safety that is equivalent to, or greater than, the level that would be achieved absent such exemption.

FOR FURTHER INFORMATION CONTACT: Mr. Richard Clemente, Driver and Carrier Operations Division; Office of Carrier, Driver and Vehicle Safety Standards; FMCSA; (202) 366-2722; richard.clemente@dot.gov. If you have questions on viewing or submitting material to the docket, contact Dockets Services at (202) 366-9826.

SUPPLEMENTARY INFORMATION:

I. Public Participation

Viewing Comments and Documents

To view comments, go to www.regulations.gov, insert the docket number “FMCSA-2023-0057” in the keyword box, and click “Search.” Next, sort the results by “Posted (Newer-Older),” choose the first notice listed, click “Browse Comments.”

To view documents mentioned in this notice as being available in the docket, go to www.regulations.gov, insert the docket number “FMCSA-2023-0057” in the keyword box, click “Search,” and chose the document to review.

If you do not have access to the internet, you may view the docket online by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including any safety analyses that have been conducted. The Agency must provide an opportunity for public comment on the request.

The Agency reviews safety analyses and public comments submitted and determines whether granting the exemption would likely achieve a level of safety equivalent to, or greater than, the level that would be achieved by the current regulation (49 CFR 381.305(a)). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2). The exemption may be renewed (49 CFR 381.300(b)).

III. Background

Current Regulations

Under 49 CFR 391.11(b)(1) a person may not drive a (CMV) in interstate commerce unless they are at least 21 years old, regardless of whether operation of the CMV requires a commercial driver's license (CDL). Additionally, for drivers under 21 operating CMVs requiring a CLP or CDL, under 49 CFR 383.153(b)(2)(ix)(G), an intrastate only “K” restriction must appear on the individual's CLP or CDL.

Safe Driver Apprenticeship Pilot Program

The SDAP program allows registered motor carriers to use apprentice drivers who are 18 to 20 years old under certain circumstances. Apprentice drivers under the SDAP program must hold a CDL and complete separate 120- and 280-hour probationary periods during their apprenticeship with registered motor carriers. (87 FR 2477).

Applicant's Request

Pitt Ohio is a less-than-truckload regional carrier which operates multiple straight trucks. The applicant seeks an exemption from the requirement in the Agency's SDAP program that an apprentice hold a CDL prior to enrolling in the program. Pitt Ohio requests the exemption to allow it to use CLP holders in the SDAP Program. These CLP holders would still need to meet all the remaining apprentice requirements, as well as the existing regulatory requirements for CLP holders (e.g., presence of a valid CDL holder in the passenger seat). Pitt Ohio estimates that 25 CLP holders would operate under the exemption each year. The applicant believes the exemption would relieve them of “difficulty locating and recruiting apprentice drivers into [the] SDAP Program.”

Applicant's Method To Ensure an Equivalent or Greater Level of Safety

According to Pitt Ohio, CLP drivers operating under the exemption would be as safe or safer than those currently allowed to operate under the SDAP program. Pitt Ohio asserts that the CLP driver operating under the exemption will be safer and more productive due to being trained initially in a smaller CMV so the apprentice can learn and gain an understanding of the industry with the same equipment and oversight from an experienced and approved FMCSA trainer before graduating into larger equipment for the post-CDL aspect of the SDAP program. Pitt Ohio did not ask for any exemption to the level of safety required under the current SDAP program and indicated that they would meet or exceed all hours of training and technology on the CMVs the apprentice would operate. Pitt Ohio would be voluntarily applying SDAP program requirements to the pre-CDL portion of driver development and training, and in addition would report all progress of the program as required and any additional requirements that may be requested by FMCSA to meet the exemption request.

IV. Public Comments

On February 23, 2023, FMCSA published notice of the Pitt Ohio application and requested public comments (88 FR 11504). The Agency was seeking comment on whether this exemption should be limited to Pitt Ohio, or whether it should be drafted to apply to any SDAP program participating motor carrier that is currently listed as a certified training provider for purposes of the FMCSRs, or that enters into a partnership with a certified training provider. On this question, one individual responded, “I am all for this plan, so long as you make the training program universal for everyone.” The Agency received a total of 23 comments: 4 supporting the exemption request, 16 opposing it, and the other 3 taking no position either for or against. Joint comments filed by the Truck Safety Coalition, Citizens for Reliable and Safe Highways (CRASH), and Parents Against Tired Truckers (PATT) stated “Pitt-Ohio(sic) Express, LLC has not met the measure of evidence required to prove an equivalent or greater level of safety in its exemption application. They only request that FMCSA dilute the program requirements in misplaced efforts to make it easier to attract under-21 drivers.” Edward Richard opposed the application and stated “allowing them to put more immature drivers on the road is just wrong and unsafe.” AWM Associates, LLC also opposed, noting that “until Pitt-Ohio(sic) is an approved CDL training provider on the FMCSA's Training Provider Registry (TPR) its petition must be denied.” Those in support commented that the Pitt Ohio request should be made universal for everyone, that age should not matter, and that the Agency should use great caution in implementing the exemption should it be granted.

V. FMCSA's Decision

FMCSA has evaluated Pitt Ohio's application and the filed comments and finds that there is insufficient basis to conclude that the exemption would likely achieve a level of safety equivalent to, or greater than, the level achieved without the exemption. The SDAP's purpose is to determine whether there are conditions where safety data indicate younger drivers (18- to 20-year-olds) might be allowed to operate CMVs. Congress authorized SDAP, opening the pilot to those 18- to 20-year-olds who hold a CDL, not a CLP. In addition, granting the Pitt Ohio exemption could potentially put young and inexperienced drivers in a position of high responsibility, potentially exposing them and surrounding drivers to crashes and incidents involving CMVs. The Agency therefore believes that Pitt Ohio's prospective apprentice CLP drivers should not be legally permitted to operate CMVs in interstate commerce if less than 21 years of age.

For the above reasons, FMCSA denies Pitt Ohio's exemption application.

Sue Lawless,
Acting Deputy Administrator.

[FR Doc. 2024-10077 Filed 5-8-24; 8:45 am]

BILLING CODE 4910-EX-P